DEPARTMENT OF ENERGY

Federal Energy Regulatory Commission

Combined Notice of Filings #1

July 11, 2006.

Take notice that the Commission received the following electric rate filings:

Docket Numbers: ER96-780-013; ER00-3240-005; ER01-1633-003; ER03-1383-004.

Applicants: DeSoto County Generating Company, LLC; Southern Company Services, Inc.; Oleander Power Project, L.P.; Southern Company—Florida LLC.

Description: Southern Company Services, Inc. submits a notice of non-material Change in Status regarding Southern Power Company acquisition of DeSoto County Generation Company's Desoto Facility located in the Progress Energy Florida Control Area.

Filed Date: 6/30/2006.

Accession Number: 20060630-5016.

Comment Date: 5 p.m. Eastern Time on Friday, July 21, 2006.

Docket Numbers: ER98-3760-013.

Applicants: California Independent System Operator Corporation.

Description: California Independent System Operator Corp. submits modifications to Section 7.2.2.2 of its Tariff in compliance to FERC's 6/7/06 Order.

Filed Date: 7/6/2006.

Accession Number: 20060710-0010.

Comment Date: 5 p.m. Eastern Time on Thursday, July 27, 2006.

Docket Numbers: ER03-345-007.

Applicants: New England Power Pool Participants Commission.

Description: ISO New England, Inc. submits its semi-annual status report on Load Response Programs pursuant to FERC's 2/25/03 Order.

Filed Date: 6/30/2006.

Accession Number: 20060710-0013.

Comment Date: 5 p.m. Eastern Time on Friday, July 21, 2006.

Docket Numbers: ER03-583-005.

Applicants: Entergy Services, Inc.

Description: Entergy Services, Inc on behalf of Entergy New Orleans, Inc. submits redetermined rates for years 2004, 2005 and 2006 for its life-of-the-unit Purchased Power Agreements with Entergy Gulf States, Inc and Entergy Louisiana, Inc.

Filed Date: 6/30/2006.

Accession Number: 20060707-0065.

Comment Date: 5 p.m. Eastern Time on Friday, July 21, 2006.

Docket Numbers: ER06-576-002.

Applicants: Southern Company Services, Inc.

Description: Southern Company Services, Inc. on behalf of the Southern Companies submits a compliance filing pursuant to the Commission's 6/1/06 Order.

Filed Date: 7/3/2006.

Accession Number: 20060706-0285.

Comment Date: 5 p.m. Eastern Time on Monday, July 24, 2006.

Docket Numbers: ER06-778-001.

Applicants: Dominion Nuclear Connecticut, Inc.

Description: Dominion Nuclear Marketing III, LLC submits its cancelled tariff sheet, Second Revised Sheet 1 of Original Volume No. 1, pursuant to FERC's 5/12/06 Order.

Filed Date: 7/6/2006.

Accession Number: 20060710-0008.

Comment Date: 5 p.m. Eastern Time on Thursday, July 27, 2006.

Docket Numbers: ER06-1124-001.

Applicants: Kentucky Utilities Company.

Description: Kentucky Utilities submits its notice of cancellation of the interconnection agreement with Eastern Kentucky Power Cooperative.

Filed Date: 6/27/2006.

Accession Number: 20060705-0058.

Comment Date: 5 p.m. Eastern Time on Tuesday, July 18, 2006.

Docket Numbers: ER06-1190-000.

Applicants: Southern California Edison Company.

Description: Southern California Edison submits a revised Mohave-El Dorado Communication Facilities Agreement with the Los Angeles Department of Water and Power et al.

Filed Date: 6/29/2006.

Accession Number: 20060705-0063.

Comment Date: 5 p.m. Eastern Time on Thursday, July 20, 2006.

Docket Numbers: ER06-1198-000.

Applicants: New England Power Pool Participants Committee.

Description: The New England Power Pool Participants Committee submits a counterpart signature page of the New England Power Pool Agreement, dated as of 9/1/97 as amended and executed by Vermont Transco LLC.

Filed Date: 6/30/2006.

Accession Number: 20060705-0075.

Comment Date: 5 p.m. Eastern Time on Friday, July 21, 2006.

Docket Numbers: ER06-1207-000.

Applicants: Central Maine Power Company.

Description: Central Maine Power Co submits its Annual Update to Formula Rates in Schedule 21-CMP of ISO-NE Transmission, Markets & Service Tariff, effective 6/1/06 et al.

Filed Date: 6/30/2006.

Accession Number: 20060705-0060.

Comment Date: 5 p.m. Eastern Time on Friday, July 21, 2006.

Docket Numbers: ER06-1208-000.

Applicants: Vermont TRANSCO LLC.

Description: Vermont Transco LLC submits a Notice of Succession which identifies the rate schedules to be transferred to VTransco, Vermont Electric Power Co., Rate Schedule 236 etc. under ER06-1208.

Filed Date: 6/30/2006.

Accession Number: 20060705-0059.

Comment Date: 5 p.m. Eastern Time on Friday, July 21, 2006.

Docket Numbers: ER06-1211-000.

Applicants: Public Service Company of New Mexico.

Description: Public Service Co. of New Mexico submits an executed Firm Point-to-Point Transmission Service Agreement with Aragonne Wind, LLC.

Filed Date: 7/3/2006.

Accession Number: 20060706-0038.

Comment Date: 5 p.m. Eastern Time on Monday, July 24, 2006.

Docket Numbers: ER06-1213-000.

Applicants: Southern Company Services, Inc.

Description: Southern Company Services, Inc. on behalf of Alabama Power Co. et al. submits the Rollover Transmission Service Agreement for Long-Term Firm Point-to-Point Transmission Service.

Filed Date: 7/3/2006.

Accession Number: 20060706-0284.

Comment Date: 5 p.m. Eastern Time on Monday, July 24, 2006.

Docket Numbers: ER06-1214-000.

Applicants: Westar Energy, Inc.

Description: Westar Energy, Inc. submits its Sixth Revised Sheet 11 of Second Revised Rate Schedule 300, extending 31 days the Agreement with Missouri Joint Municipal Electric Utility Commission.

Filed Date: 7/3/2006.

Accession Number: 20060706-0283.

Comment Date: 5 p.m. Eastern Time on Monday, July 24, 2006.

Docket Numbers: ER06-1215-000.

Applicants: Westar Energy, Inc.

Description: Westar Energy, Inc. submits Fifth Revised Sheet 11 to Rate Schedule 303, extending 31 days the Agreement with Missouri Joint Municipal Electric Utility Commission.

Filed Date: 7/3/2006.

Accession Number: 20060706-0282.

Comment Date: 5 p.m. Eastern Time on Monday, July 24, 2006.

Docket Numbers: ER06-1216-000.

Applicants: Westar Energy, Inc.

Description: Westar Energy, Inc submits Fifth Revised Sheet 9 of Rate Schedule 302, extending 31 days the Agreement with Missouri Joint Municipal Electric Utility Commission.

Filed Date: 7/3/2006.

Accession Number: 20060706-0281.

Comment Date: 5 p.m. Eastern Time on Monday, July 24, 2006.

Docket Numbers: ER06-1217-000.

Applicants: Entergy Services, Inc.

Description: Entergy Services, Inc on behalf of Entergy Arkansas, Inc submits an executed Service Agreement providing for cost-based short-term power sales to North Arkansas Electric Cooperative, Inc.

Filed Date: 7/3/2006.

Accession Number: 20060706-0280.

Comment Date: 5 p.m. Eastern Time on Monday, July 24, 2006.

Docket Numbers: ER06-1218-000.

Applicants: PJM Interconnection, LLC.

Description: PJM Interconnection, LLC submits revisions to its Amended and Restated Operating Agreement and its OATT.

Filed Date: 7/3/2006.

Accession Number: 20060706-0279.

Comment Date: 5 p.m. Eastern Time on Monday, July 24, 2006.

Docket Numbers: ER06-1219-000.

Applicants: ISO New England Inc.

Description: ISO New England Inc. submits associated modifications to Schedule 16 of its Open Access Transmission Tariff.

Filed Date: 6/30/2006.

Accession Number: 20060706-0090.

Comment Date: 5 p.m. Eastern Time on Friday, July 21, 2006.

Docket Numbers: ER06-1220-000.

Applicants: USEG, LLP.

Description: USEG, LLP submits a petition for acceptance of initial rate schedule, waivers and blanket authorizations pursuant to Section 35.12 of the Regulations.

Filed Date: 7/5/2006.

Accession Number: 20060706-0278.

Comment Date: 5 p.m. Eastern Time on Wednesday, July 26, 2006.

Docket Numbers: ER06-1221-000.

Applicants: Parkview AMC Energy, LLC.

Description: Parkview AMC Energy, LLC submits its application for acceptance of initial market-based rate tariff, waivers and blanket authority.

Filed Date: 7/3/2006.

Accession Number: 20060706-0091.

Comment Date: 5 p.m. Eastern Time on Monday, July 24, 2006.

Docket Numbers: ER06-1222-000.

Applicants: PEAK Capital Management, LLC.

Description: PEAK Capital Management LLC submits a petition for acceptance of initial tariff, waivers and blanket authority.

Filed Date: 7/3/2006.

Accession Number: 20060710-0011.

Comment Date: 5 p.m. Eastern Time on Monday, July 24, 2006.

Docket Numbers: ER06-1223-000.

Applicants: Fairchild Energy, LLC.

Description: Fairchild Energy, LLC submits an application for order accepting initial market based rate Tariff No. 1 and granting certain waivers and blanket approvals.

Filed Date: 7/3/2006.

Accession Number: 20060710-0005.

Comment Date: 5 p.m. Eastern Time on Monday, July 24, 2006.

Docket Numbers: ER06-1224-000.

Applicants: American Electric Power Service Corporation.

Description: American Electric Power Service Corp. on behalf of Ohio Power Co et al. submit the Fifth Revised Interconnection and Local Service Agreement with Buckeye Power, Inc.

Filed Date: 6/30/2006.

Accession Number: 20060706-0041.

Comment Date: 5 p.m. Eastern Time on Friday, July 21, 2006.

Docket Numbers: ER06-1225-000.

Applicants: Indiana and Michigan Power Company.

Description: Indiana and Michigan Power Co submits its interconnection and local delivery service agreement with the Town of New Carlisle, Indiana designated as Service Agreement No. 1451.

Filed Date: 7/6/2006.

Accession Number: 20060710-0026.

Comment Date: 5 p.m. Eastern Time on Thursday, July 27, 2006.

Docket Numbers: ER06-1226-000.

Applicants: Valero Power Marketing LLC.

Description: Valero Power Marketing, LLC submits an application for market-based rate authorization and request for waivers and blanket authorizations.

Filed Date: 7/6/2006.

Accession Number: 20060710-0025.

Comment Date: 5 p.m. Eastern Time on Thursday, July 27, 2006.

Docket Numbers: ER06-1227-000.

Applicants: Southern California Edison Company.

Description: Southern California Edison submits changes to the facilities charges of Agreements with Southern California Water Co, Rate Schedule 466 et al.

Filed Date: 7/6/2006.

Accession Number: 20060710-0024.

Comment Date: 5 p.m. Eastern Time on Thursday, July 27, 2006.

Docket Numbers: ER06-1228-000.

Applicants: Phibro LLC.

Description: Phibro LLC submits a notice of succession that reflects the adoption of Phibro, Inc's First Revised Rate Schedule 1 pursuant to FERC's 3/29/04 letter order.

Filed Date: 7/6/2006.

Accession Number: 20060710-0002.

Comment Date: 5 p.m. Eastern Time on Thursday, July 27, 2006.

Docket Numbers: ER06-1229-000.

Applicants: San Joaquin Cogen, L.L.C.

Description: San Joaquin Cogen, L.L.C. submits revised sheets to its market-based rate tariff, Original Volume No. 1 to add a Code of Conduct etc.

Filed Date: 7/6/2006.

Accession Number: 20060710-0003.

Comment Date: 5 p.m. Eastern Time on Thursday, July 27, 2006.

Docket Numbers: ER06-1230-000; ER06-1231-000; ER06-1232-000; ER06-1233-000.

Applicants: EPIC Merchant Energy NE, L.P.; EPIC Merchant Energy NY, L.P.; EPIC NJ/PA, L.P.; EPIC Merchant Energy Midwest, L.P.

Description: EPIC Merchant Energy Ne, L.P. et al. submits its petition for acceptance of initial tariff, waivers and blanket authority and request acceptance of FERC Electric Tariff, Original Volume 1 under ER06-1230 et al.

Filed Date: 7/6/2006.

Accession Number: 20060710-0004.

Comment Date: 5 p.m. Eastern Time on Thursday, July 27, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-11244 Filed 7-14-06; 8:45 am]

BILLING CODE 6717-01-P